FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 1421F.

Name: E.C. McAfee Co. Customhouse Brokers dba E.C. McAfee Company.

Address: 615 Grisworld, Suite 1702, Detroit, MI 48226.

Date Revoked: December 13, 2013.

Reason: Failed to maintain a valid bond.

License No.: 1846F.

Name: Aspen Forwarders & Custom House Brokers, Inc.

Address: 20 West Lincoln Avenue, Suite 203, Valley Stream, NY 11580.

Date Revoked: January 23, 2014.

Reason: Voluntary Surrender of License.

License No.: 4335F.

Name: International Services, Inc.

Address: 2907 Empress Court, Valrico, FL 33594.

Date Revoked: December 12, 2013.

Reason: Failed to maintain a valid bond.

License No.: 6285N.

Name: CWI Container Line, Inc.

Address: 3030 Old Ranch Parkway, Suite 400, Seal Beach, CA 90740.

Date Revoked: February 4, 2014.

Reason: Voluntary Surrender of License.

License No.: 17965N.

Name: Pella Moving & Storage, Inc. dba BBS Co.

Address: 291 Marlin Street, Port Newark, NJ 07114.

Date Revoked: December 13, 2013.

Reason: Failed to maintain a valid bond.

License No.: 019399N.

Name: J&DL International, Inc.

Address: 6995 NW 82nd Avenue, Suite 44, Miami, FL 33166.

Date Revoked: December 8, 2013.

Reason: Failed to maintain a valid bond.

License No.: 020364NF.

Name: Hydra Logistics, Inc. dba Globe Express Services.

Address: 14205 Westfair West Drive, Houston, TX 77041.

Date Revoked: January 1, 2014.

Reason: Failed to maintain valid bonds.

License No.: 020490N.

Name: Tianjin Consol International Inc. db United Consol Line Inc.

Address: 745 South Lemon Avenue, Suite A-1-A, Walnut, CA 91789.

Date Revoked: February 4, 2014.

Reason: Voluntary Surrender of License.

License No.: 020660F.

Name: Gal International Inc.

Address: 5070 Parkside Avenue, Suite 3104, Philadelphia, PA 19131.

Date Revoked: December 7, 2013.

Reason: Failed to maintain a valid bond.

License No.: 021128N.

Name: Blue Carrier Line, Inc.

Address: 157 Broad Street, Red Bank, NJ 07701.

Date Revoked: January 15, 2014.

Reason: Voluntary Surrender of License.

License No.: 021426N.

Name: Sunny Group USA, Inc.

Address: 17870 Castleton Street, Suite 107, City of Industry, CA 91748.

Date Revoked: February 12, 2014.

Reason: Voluntary Surrender of License.

License No.: 022446NF.

Name: CJ GLS America, Inc.

Address: 6131 Orangethorpe Avenue, Suite 410, Buena Park, CA 90620.

Date Revoked: February 20, 2014.

Reason: Voluntary Surrender of License.

License No.: 022842NF.

Name: CALS Logistics USA, Inc.

Address: 729 N. Route 83, Suite 302, Bensenville, IL 60106.

Date Revoked: December 1, 2013.

Reason: Failed to maintain valid bonds.

License No.: 023040F.

Name: Pegasus Worldwide Logistics, Inc.

Address: 2660 East Del Amo Blvd., Carson, CA 90221.

Date Revoked: December 2, 2013.

Reason: Failed to maintain a valid bond.

License No.: 023807N.

Name: Alpha Florida Trade, LLC.

Address: 2930 NW 108th Avenue, Doral, FL 33172.

Date Revoked: January 31, 2014.

Reason: Voluntary Surrender of License.

Sandra L. Kusumoto,
Director, Bureau of Certification and Licensing.

[FR Doc. 2014-05636 Filed 3-13-14; 8:45 am]

BILLING CODE 6730-01-P